DEPARTMENT OF THE TREASURY

Bureau of Alcohol, Tobacco and Firearms

[Docket No. 938; ATF O 1130.19]

Delegation Order—Delegation of the Director's Authorities in 27 CFR Part 70, Procedure and Administration, Other Than Certain Offers in Compromise

To: All Bureau Supervisors.

1. Purpose. This order delegates certain authorities of the Director to subordinate ATF officers and prescribes the subordinate ATF officers with whom persons file documents which are not ATF forms. In addition, this order provides procedures for requests or demands for disclosure in testimony and in related matters.

2. Background. Under current regulations, the Director has authority to take final action on matters relating to procedure and administration. The Bureau has determined that certain of these authorities should, in the interest of efficiency, be delegated to a lower organizational level.

3. Cancellations. The following ATF orders are canceled:

a. ATF O 1100.8B, Delegation Order—Notice of Additional Inspection of Taxpayer's Books of Account Under section 7605(b), Internal Revenue Code, dated 10/28/92; and

b. ATF O 1100.115D, Delegation Order—Authority to Approve Testimony and Release Official Information, dated 4/3/98.

4. Delegations.

a. Under the authority vested in the Director, Bureau of Alcohol, Tobacco and Firearms, by Treasury Department Orders No. 120-01 (formerly 221), dated June 6, 1972, No. 120-03, dated November 5, 1990, and by 26 CFR 301.7701-9, this ATF order delegates certain authorities to take final action prescribed in 27 CFR part 70 to subordinate officers with certain exceptions. The exceptions are the authorities contained in 27 CFR 70.482 and 70.483 to accept or reject offers in compromise other than those relating to forfeiture cases. These exceptions have been delegated through a separate ATF order.

b. This ATF order prescribes the subordinate officers with whom applications, notices, and reports required by 27 CFR part 70 (other than 27 CFR 70.482 and 70.483), which are not ATF forms, are filed.

c. The attached table identifies the regulatory sections, authorities and documents to be filed, and the authorized ATF officers.

d. The authorities in the table may not be redelegated.

5. Procedures for Requests or Demands for Disclosure in Testimony and in Related Matters Under 27 CFR 70.803. These procedures do not restrict (1) the disclosure pursuant to the Freedom of Information Act, (2) Privacy Act requests, and (3) the disclosure to attorneys of the Department of Justice for use in cases referred by the Department of the Treasury for prosecution or defense that arise under the laws administered by or concerning ATF. The provisions, including the penalties, of 27 CFR 70.803 apply to any disclosure.

a. Request or Demand for Disclosure. A request or demand for information and, if required, an affidavit or statement, must be served on the Bureau at least 5 working days prior to the scheduled date of testimony or disclosure of records. If a request or demand is served with less time, advise the requesting party of the requirement under 27 CFR 70.803 and that ATF is prohibited from complying with the request or demand until approval has been granted by the Bureau. These requirements may be waived for good cause.

b. Headquarters Employees. The first-line supervisor must obtain the concurrence of the Office of Chief Counsel.

c. Non-Headquarters Employees. The first-line supervisor must obtain the concurrence of the assistant U.S. attorney (if appropriate). The assistant chief counsel or division counsel must also be contacted for advice for approvals; however, recommendations for denial must have the concurrence of the appropriate assistant U.S. attorney and assistant chief counsel or division counsel.

d. Recommendation for approval or denial of a request or demand for testimony or records. It should be transmitted by memorandum to the deciding officer within 2 workdays and contain the following information as applicable:

(1) Investigation title and number.

(2) Type of request or demand.

(3) Date and time the request or demand was received.

(4) Whether an ongoing investigation might result in criminal prosecution.

(5) Whether a criminal case is pending (also include U.S. attorney's recommendation).

(6) Whether the documents requested contain the name of a confidential informant.

(7) Whether the documents requested contain a disclosure covered by 26 U.S.C. sections 5848, 6103, 7213, or other protected information set forth in section 70.803(e)(5) of the ATF regulations.

(8) Type of proceeding, including the name and location of the court or other authority.

(9) Names of the plaintiffs and defendants.

(10) Copy of the subpoena or written request.

(11) Copy of the requesting party's affidavit if applicable.

(12) For insurance-related arson requests, the name and address of the insurance investigator to whom disclosure will be made, as well as the name and address of the insurance company the investigator represents.

(13) Whether there are any known reasons that release of the information would be inappropriate.

e. Refusal to Withdraw Request. If a request or demand is denied and a party refuses to withdraw its subpoena, the employee should do the following:

(1) Immediately notify the deciding officer through the first-line supervisor and contact a representative from the Office of Chief Counsel.

(2) If appropriate, appear with a representative from the U.S. attorney's office or a representative from the Office of Chief Counsel and respectfully state his or her inability to comply in full with the request or demand, relying on the provisions of 27 CFR 70.803.

f. Additional Reporting. Report any request or demand for testimony or records in accordance with ATF O 3210.7C, Investigative Priorities, Procedures, and Techniques, dated­2/25/1999.

6. Questions. If you have questions about this ATF order, contact the Regulations Division (202-927-8210).

Bradley A. Buckles,
Director.

Regulatory section | Officer(s) authorized to act or receive document
§ 70.2 | Division Chief in the office of Alcohol and Tobacco except Executive Assistant, Field Operations, for ATF Form 3200.13, Application and Public Voucher for Award.
§ 70.21 | Assistant Director (Alcohol and Tobacco) or Director of Industry Operations.
§ 70.22(a) | Inspector, Specialist, Auditor or Special Agent.
§ 70.22(b) | Director of Industry Operations, Chief, National Revenue Center (NRC), Chief, Tax Audit Division, or Assistant to the Special Agent in Charge (Office of Inspection) to issue summonses and to designate Inspectors, Specialists, Auditors or Special Agents who execute the particulars of the summonses.
§ 70.23(b) | Inspector, Specialist, Auditor or Special Agent.
§ 70.24(b) | Director of Industry Operations, Chief, NRC or Assistant to the Special Agent in Charge (Office of Inspection).
§ 70.25(a)(4) | Division Director/Special Agent in Charge or Chief, NRC.
§ 70.26(c)(2)(ii) | Division Director/Special Agent in Charge or Chief, NRC.
§ 70.30 | Director of Industry Operations, Chief, NRC or Assistant to the Special Agent in Charge (Office of Inspection).
§ 70.31 | Inspector, Specialist, Auditor or Special Agent.
§ 70.32 | Inspector, Specialist, Auditor or Special Agent.
§ 70.33 | Special Agent or other officer that the Division Director/Special Agent in Charge charges with the duty of enforcing any of the criminal, seizure, or forfeiture provisions of the laws administered and enforced by the Bureau pertaining to commodities subject to regulation by the Bureau.
§ 70.34 | Inspector, Specialist, Auditor or Special Agent.
§ 70.40 | Inspector, Specialist, Auditor or Special Agent.
§ 70.41(a) and (c) | Division Director/Special Agent in Charge to act on awards of $10,000 or less. Deputy Assistant Director (Field Operations) to act on awards over $10,000.
§ 70.41(d) | Special Agent.
§ 70.42 | Inspector, Specialist, Auditor or Special Agent.
§ 70.51 | Inspector, Specialist, Auditor or Special Agent.
§ 70.61 | For persons filing firearms taxes under Chapter 53 of the Internal Revenue Code, Chief, National Firearms Act Branch; for persons filing alcohol or tobacco taxes in Puerto Rico, Chief, Puerto Rico Operations; otherwise, Unit Supervisor, NRC.
§ 70.64 | Inspector, Specialist, Auditor or Special Agent.
§ 70.71 | For persons in Puerto Rico, Chief, Puerto Rico Operations; otherwise, Chief, Revenue Section, NRC except Inspector, Specialist, Auditor or Special Agent may determine the amount of taxes that are disclosed on a return or list.
§ 70.72 | For assessments in Puerto Rico, Chief, Puerto Rico Operations; otherwise, Chief, Revenue Section, NRC.
§ 70.73 | For assessments in Puerto Rico, Chief, Puerto Rico Operations; otherwise, Chief, Revenue Section, NRC.
§ 70.74 | For assessments in Puerto Rico, Chief, Puerto Rico Operations; otherwise, Chief, Revenue Section, NRC.
§ 70.75 | For assessments in Puerto Rico, Chief, Puerto Rico Operations; otherwise, Chief, Revenue Section, NRC.
§ 70.76 | For assessments in Puerto Rico, Chief, Puerto Rico Operations; otherwise, Chief, Revenue Section, NRC.
§ 70.77(a) | For assessments in Puerto Rico, Chief, Puerto Rico Operations; otherwise, Chief, Revenue Section, NRC.
§ 70.77(b) | Area Supervisor, Chief, Puerto Rico Operations or Chief, Revenue Section.
§ 70.81 | For taxes in Puerto Rico, Chief, Puerto Rico Operations; otherwise, Chief, Revenue Section, NRC.
§ 70.82 | For taxes in Puerto Rico, Chief, Puerto Rico Operations; otherwise, Chief, Revenue Section, NRC.
§ 70.92(c) | For refunds in Puerto Rico, Chief, Puerto Rico Operations; otherwise, Unit Supervisor, NRC.
§ 70.92(d)(2)(i) | For taxes in Puerto Rico, Chief, Puerto Rico Operations; otherwise, Chief, Revenue Section, NRC.
§ 70.94(a) | Inspector, Specialist, Auditor or Special Agent.
§ 70.96(a) | For taxes in Puerto Rico, Chief, Puerto Rico Operations; otherwise, Unit Supervisor, NRC.
§ 70.96(c) | For taxes in Puerto Rico, Chief, Puerto Rico Operations; otherwise, Section Chief, NRC, except in case of Inspector, Specialist, Auditor or Special Agent who receives such statement along with a return for special tax for retail liquor dealer.
§ 70.97(c)(2) | For taxes in Puerto Rico, Chief, Puerto Rico Operations; otherwise, Section Chief, NRC.
§ 70.98(b) | For taxes in Puerto Rico, Chief, Puerto Rico Operations; otherwise, Section Chief, NRC.
§ 70.100 | Section Chief, NRC.
§ 70.101 | For taxes in Puerto Rico, Chief, Puerto Rico Operations; otherwise, Section Chief, NRC.
§ 70.113(b) | For taxes in Puerto Rico, Chief, Puerto Rico Operations; otherwise, Section Chief, NRC.
§ 70.122 | For claims and refunds in Puerto Rico, Chief, Puerto Rico Operations; otherwise, Section Chief, NRC, to make credit or refund of more than $5,000 or Unit Supervisor, NRC, to make credit or refund of $5,000 or less.
§ 70.123(a)(2) and (b)(1) and (2) | For claims in Puerto Rico, Chief, Puerto Rico Operations; otherwise, Unit Supervisor, NRC.
§ 70.124 | For taxes in Puerto Rico, Chief, Puerto Rico Operations; otherwise, Section Chief, NRC, to make credit or refund of more than $5,000 or Unit Supervisor, NRC, to make credit or refund of $5,000 or less.
§ 70.125(a) and (b) | For taxes in Puerto Rico, Chief, Puerto Rico Operations; otherwise, Section Chief, NRC, to abate more than $5,000 or Unit Supervisor, NRC, to abate $5,000 or less.
§ 70.125(c) | Chief, Revenue Programs Division.
§ 70.126 | For taxes in Puerto Rico, Chief, Puerto Rico Operations; otherwise, Section Chief, NRC, to make credit or refund of more than $5,000 or Unit Supervisor, NRC, to make credit or refund of $5,000 or less.
§ 70.149(a)(3) | Chief, NRC.
§ 70.149(b)(2)(A) | Unit Supervisor, NRC, Inspector, Auditor or Special Agent.
§ 70.150 | Chief, NRC.
§ 70.151(g) | Chief, NRC.
§ 70.161 | Chief, NRC.
§ 70.162(a) and (b) | Chief, NRC.
§ 70.163(a)(2)(ii) | Inspector, Specialist, Auditor or Special Agent.
§ 70.163(b) and (c) | Chief, NRC.
§ 70.164(b)(1) | Inspector, Specialist, Auditor or Special Agent.
§ 70.164(c) | Chief, Revenue Section, NRC.
§ 70.167 | Chief, NRC except for (b)(1)(iii) in which Area Supervisor determines the minimum price of property.
§ 70.168 | Chief, NRC.
§ 70.169 | Chief Revenue Section, NRC, or Area Supervisor.
§ 70.170(b) | Section Chief, NRC.
§ 70.181(a), (b) and (c) | Director of Industry Operations or Section Chief, NRC.
§ 70.182 | Director of Industry Operations or Section Chief, NRC, except that Chief, NRC, to prescribe instructions for disposition of bonds, other than U.S. savings bonds, notes, checks, and other securities.
§ 70.183(a) through (e) | Director of Industry Operations or Section Chief, NRC.
§ 70.183(f) | Chief, NRC, to take charge and assume responsibility from, and to notify, Director of Industry Operations or Section Chief, NRC, or to appoint one Section Chief.
§ 70.184 | Director of Industry Operations or Section Chief, NRC.
§ 70.185 | Director of Industry Operations or Section Chief, NRC.
§ 70.186 | Director of Industry Operations or Section Chief, NRC.
§ 70.187 | Area Supervisor or Section Chief, NRC to make record. Unit Supervisor, NRC, to maintain original record and to certify record.
§ 70.188 | Area Supervisor or Unit Supervisor, NRC.
§ 70.191 | Chief, NRC, or Associate Chief Counsel (Alcohol or Tobacco).
§ 70.192(a) | Chief, NRC, or Associate Chief Counsel (Alcohol or Tobacco).
§ 70.204(a)(3) | Unit Supervisor, NRC.
§ 70.205 | Unit Supervisor, NRC.
§ 70.206 | Director of Industry Operations or Section Chief, NRC.
§ 70.213 | Chief, Financial Management Division.
§ 70.222(b) | Inspector, Specialist, Auditor or Special Agent.
§ 70.223 | Chief, Revenue Section, NRC, or Director, Industry Operations.
§ 70.224(a)(2) | Unit Supervisor, NRC.
§ 70.227 | Inspector, Specialist, Auditor or Special Agent.
§ 70.231(i)(3) | Section Chief, NRC.
§ 70.241(a)(8) | Section Chief, NRC.
§ 70.242(a) and (c) | Section Chief, NRC.
§ 70.245(a), (c) and (d) | Section Chief, NRC.
§ 70.251(a)(2) | Unit Supervisor, NRC.
§ 70.251(b) | Section Chief, NRC.
§ 70.253(b)(2) | Section Chief, NRC.
§ 70.263(d) | Section Chief, NRC.
§ 70.271(d)(1) | Section Chief, NRC.
§ 70.281(b)(2) and (3) | Section Chief, NRC.
§ 70.301(a) | Chief, Acquisition and Property Management Division.
§ 70.306(a) | Inspector, Specialist, Auditor or Special Agent.
§ 70.311 | Chief, Document Services Branch, except the Director will establish stamps, marks or labels.
§ 70.333 | Chief, NRC.
§ 70.411(b) | Unit Supervisor, NRC.
§ 70.413(a) | Unit Supervisor, NRC, or Area Supervisor.
§ 70.414(a) | Inspector, Specialist, Auditor or Special Agent to take samples. Unit Supervisor, NRC, to allow credit for such samples.
§ 70.416 | Chief, Market Compliance Branch.
§ 70.433(a) | Section Chief, NRC.
§ 70.435(i) | Unit Supervisor, NRC.
§ 70.447 | For taxes in Puerto Rico, Chief, Puerto Rico Operations; otherwise, Section Chief, NRC.
§ 70.471(a)(3) | Assistant Director (Alcohol and Tobacco), Assistant Director (Firearms, Explosives and Arson) or Chief, NRC to whom request is sent. Division Chief (Alcohol or Tobacco) or (Firearms, Explosives and Arson) to issue ruling.
§ 70.471(b) | Unit Supervisor, NRC, for matters concerning alcohol, tobacco, and firearms and ammunition excise tax. For all other matters, Area Supervisor.
§ 70.481 | Section Chief, NRC.
§ 70.484—offers in compromise for forfeiture under 26 U.S.C. | Assistant Director (Alcohol and Tobacco) or (Firearms, Explosives and Arson) depending on case.
§ 70.485 | Assistant Director (Alcohol and Tobacco) or (Firearms, Explosives and Arson) depending on case.
§ 70.486 | Unit Supervisor, NRC, Area Supervisor or Resident Agent In Charge/Group Supervisor.
§ 70.504(c)(2) | For taxes in Puerto Rico, Chief, Puerto Rico Operations; otherwise, Unit Supervisor, NRC.
§ 70.506 | For taxes in Puerto Rico, Chief, Puerto Rico Operations; otherwise, Unit Supervisor, NRC.
§ 70.507(g) | Unit Supervisor, NRC, Area Supervisor or Chief, Puerto Rico Operations.
§ 70.602(a) and (b) | For claims filed in Puerto Rico, Chief, Puerto Rico Operations; otherwise, Unit Supervisor, NRC.
§ 70.606 | Unit Supervisor, NRC, Area Supervisor or Chief, Puerto Rico Operations.
§ 70.608 | For claims filed in Puerto Rico, Chief, Puerto Rico Operations; otherwise, Unit Supervisor, NRC.
§ 70.609 | For claims filed in Puerto Rico, Chief, Puerto Rico Operations; otherwise, Unit Supervisor, NRC.
§ 70.701(a) | An ATF supervisor in the office of Alcohol and Tobacco or Firearms, Explosives and Arson to make rules other than Treasury Decisions.
§ 70.701(d)(2)(iv) (A) | Assistant Director (Alcohol and Tobacco).
§ 70.701(d)(2)(iv) (B) and (C) | Assistant Director (Alcohol and Tobacco) or (Firearms, Explosives and Arson).
§ 70.802(a) | Unit Supervisor, NRC. Copy of abstract and statement available at ATF Library.
§ 70.802(c) | For (a) Certain information about applications for Federal Alcohol Administration Act Basic Permits as allowed by 27 CFR 1.59; or (b) The business name and address of any Federal Alcohol Administration Act permittees Specialist, Clerk or Auditor in the office of Alcohol and Tobacco, or Inspector or Special Agent in the office of Field Operations; otherwise, Chief, Disclosure Division.
§ 70.802(d) | Specialist or Clerk, Alcohol Labeling and Formulation Division.
§ 70.802(e) | Unit Supervisor, NRC.
§ 70.802(f) | Chief, Alcohol and Tobacco Laboratory.
§ 70.803 | a. Request for disclosure by Headquarters officer or employee. Deputy Director or Deputy Assistant Directors for offices except Executive Assistant for office of Field Operations, to approve, or by affixing the Director's signature to deny in whole or part. b. Request for disclosure by non-Headquarters officer or employee. Division Director/Special Agent in Charge, Chief, Laboratory Services, Chief, NRC, Chief, Audit Manager, Chief, NRC, Chief, National Licensing Center, Chief, or National Tracing Center Division, to approve, or by affixing the Director's signature to deny in whole or part.

[FR Doc. 02-3941 Filed 2-15-02; 8:45 am]

BILLING CODE 4810-31-P